NUCLEAR REGULATORY COMMISSION

[Docket No. 50-334]

FirstEnergy Nuclear Operating Company; Biweekly Notice; Applications and Amendments to Facility Operating Licenses Involving No Significant Hazards Considerations; Correction

AGENCY: Nuclear Regulatory Commission.

ACTION: Notice of issuance; correction.

SUMMARY: This document corrects a notice appearing in the Federal Register on June 21, 2005 (70 FR 35737), that incorrectly referenced the date of an amendment request. This action is necessary to correct an erroneous date. The correct date of the amendment request is April 13, 2005.

FOR FURTHER INFORMATION CONTACT: Mr. Timothy Colburn, Project Manager, Office of Nuclear Reactor Regulation, U.S. Nuclear Regulatory Commission, Washington, DC 20555-0001; telephone (301) 415-1402, e-mail: TGC@nrc.gov.

SUPPLEMENTARY INFORMATION: On page 35737, in the third column, the second-to-last paragraph is corrected to read “Date of amendment request: April 11, 2005” to “ Date of amendment request: April 13, 2005.”

Dated in Rockville, Maryland, this 14th day of July, 2005.
For the Nuclear Regulatory Commission.
Timothy G. Colburn,
Project Manager, Section 1, Project Directorate I, Division of Licensing Project Management, Office of Nuclear Reactor Regulation.

[FR Doc. 05-14363 Filed 7-20-05; 8:45 am]

BILLING CODE 7590-01-P